DEPARTMENT OF HOMELAND SECURITY

Office of the Secretary

[Docket No. DHS-2008-0009]

Privacy Act of 1974; Department of Homeland Security Asset Management Records System of Records

AGENCY: Privacy Office; DHS.

ACTION: Notice of Privacy Act system of records.

SUMMARY: In accordance with the Privacy Act of 1974, the Department of Homeland Security is giving notice that it proposes to consolidate four legacy record systems: Justice/INS-004 The Asset Management Information System (AMIS), FEMA/ADM-2 Office Services File System, Treasury/CS.044 Certificates of Clearance, and Treasury/CS.201 Property File Non-Expendable into one Department-wide system of records. The Department of Homeland Security also proposes to partially consolidate one legacy record system: Treasury/USSS.001 Administrative Information System into this Department-wide system of records. This system will allow the Department of Homeland Security to collect and maintain records of all Department-owned or controlled property that has been issued to current and former DHS employees and contractors. Categories of individuals, categories of records, and the routine uses of these legacy system of records notices have been consolidated and updated to better reflect the Department's asset management record systems. This consolidated system, titled Asset Management, will be included in the Department of Homeland Security's inventory of record systems.

DATES: Submit comments on or before November 24, 2008.

ADDRESSES: You may submit comments, identified by docket number DHS-2008-0009 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change and may be read at http://www.regulations.gov, including any personal information provided.

• Docket: For access to the docket to read background documents or comments received, go to http://www.regulations.gov.

FOR FURTHER INFORMATION CONTACT: For general questions and privacy issues please contact: Hugo Teufel III (703-235-0780), Chief Privacy Officer, Privacy Office, Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS) and its components and offices have relied on preexisting Privacy Act systems of records notices for the collection and maintenance of records that concern asset management with regards to any employee or contractor who has been assigned DHS property.

As part of its efforts to streamline and consolidate its records systems, DHS is establishing a consolidated system of records under the Privacy Act (5 U.S.C. 552a) for the DHS asset management records. This will ensure that all components of DHS follow the same privacy rules for collecting and handling asset management records. The collection and maintenance of asset management information assists DHS in meeting its obligation to manage Departmental assets assigned to employees, such as computers, telephones, or other assets.

In accordance with the Privacy Act of 1974, DHS is giving notice that it proposes to consolidate four legacy record systems: Justice/INS-004 The Asset Management Information System (AMIS) (67 FR 64136 October 17, 2002), FEMA/ADM-2 Office Services File System (55 FR 37182 September 7, 1990), Treasury/CS.044 Certificates of Clearance (66 FR 52984 October 18, 2001), and Treasury/CS.201 Property File Non-Expendable (66 FR 52984 October 18, 2001) into one DHS-wide system of records. DHS also proposes to partially consolidate one legacy record system: Treasury/USSS.001 Administrative Information System (66 FR 45362 August 28, 2001) into this DHS-wide system of records. This system will allow DHS collect and maintain records of all Department-owned or controlled property that has been issued to current and former DHS employees and contractors. Categories of individuals, categories of records, and the routine uses of these legacy system of records notices have been consolidated and updated to better reflect the Department's asset management record systems. This consolidated system, titled Asset Management, will be included in DHS's inventory of record systems.

II. Privacy Act

The Privacy Act embodies fair information principles in a statutory framework governing the means by which the United States Government collects, maintains, uses, and disseminates individuals' records. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where systems of records maintain information on U.S. citizens, lawful permanent residents, and visitors. Individuals may request access to their own records that are maintained in a system of records in the possession or under the control of DHS by complying with DHS Privacy Act regulations, 6 CFR part 5.

The Privacy Act requires each agency to publish in the Federal Register a description denoting the type and character of each system of records that the agency maintains, and the routine uses that are contained in each system in order to make agency record keeping practices transparent, to notify individuals regarding the uses to which of their records, and to assist individuals to more easily find such files within the agency. Below is the description of the Asset Management System of Records.

In accordance with 5 U.S.C. 552a(r), DHS has provided a report of this new system of records to the Office of Management and Budget (OMB) and to Congress.

System of Records:

DHS/ALL-010.

System name:

Department of Homeland Security Asset Management Records.

Security classification:

Unclassified.

System location:

Records are maintained at several Headquarters locations and in component offices of DHS, in both Washington, DC, and field locations.

Categories of individuals covered by the system:

Categories of individuals covered by this system include all current and former DHS employees, and contractors assigned government-owned assets.

Categories of records in the system:

Categories of records maintained in this system include:

• Individual's name;

• Social security number;

• E-mail address;

• Office name;

• Office location;

• Office telephone number;

• Property management records, which include information on government-owned property (e.g. laptop computers, communication equipment, firearms, and other assets) in the personal custody of the individuals covered by this system and used in the performance of their official duties, as well as outstanding debts related to said property.

Authority for maintenance of the system:

5 U.S.C. 301; The Federal Records Act, 44 U.S.C. 3101; 40 U.S.C. 121; 41 CFR Chapter 101; and Executive Order 9373.

Purpose(s):

The purpose of this system is to track all DHS-owned or controlled property that has been issued to current and former DHS employees and contractors.

Routine uses of records maintained in the system, including categories of users and the purposes of such uses:

In addition to those disclosures generally permitted under 5 U.S.C. 552a(b) of the Privacy Act, all or a portion of the records of information contained in this system may be disclosed outside DHS as a routine use pursuant to 5 U.S.C. 552a(b)(3) as follows:

A. To the Department of Justice (including United States Attorney Offices) or other Federal agency conducting litigation or in proceedings before any court, adjudicative or administrative body when it is necessary to the litigation and one of the following is a party to the litigation or has an interest in such litigation:

1. DHS or any component thereof;

2. Any employee of DHS in his/her official capacity;

3. Any employee of DHS in his/her individual capacity where the Department of Justice or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) or harm to the individual who relies upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To unions recognized as exclusive bargaining representatives under the Civil Service Reform Act of 1978, as amended, 5 U.S.C. 7111 and 7114.

I. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

None.

Policies and practices for storing, retrieving, accessing, retaining, and disposing of records in the system:

Storage:

Records in this system are stored electronically or on paper in secure facilities in a locked drawer behind a locked door. The records are stored on magnetic disc, tape, digital media, and CD-ROM.

Retrievability:

Records may be retrieved by name, personnel number, and/or other unique personal identifier.

Safeguards:

Records in this system are safeguarded in accordance with applicable rules and policies, including all applicable DHS automated systems security and access policies. Strict controls have been imposed to minimize the risk of compromising the information that is being stored. Access to the computer system containing the records in this system is limited to those individuals who have a need to know the information for the performance of their official duties and who have the appropriate clearances or permissions.

Retention and disposal:

Records are destroyed in accordance with the following: National Archives Records Administration General Record Schedule 10, Motor Vehicle and Aircraft Maintenance and Operations Records, Items 2a (destroy when three months old) and 5 (destroy six years after case is closed); General Record Schedule 8, Stores, Plant, and Cost Accounting Records, Item 5 (destroy when three years old), and General Records Schedule 23 (destroy two-five years), Records Common to Most Offices within Agencies.

System Manager and address:

For Headquarters components of DHS, the System Manager is the Director of Departmental Disclosure, Department of Homeland Security, Washington, DC 20528. For components of DHS, the System Manager can be found at http://www.dhs.gov/foia under “contacts.”

Notification procedure:

Individuals seeking notification of and access to any record contained in this system of records, or seeking to contest its content, may submit a request in writing to the Headquarters' or component's FOIA Officer, whose contact information can be found at http://www.dhs.gov/foia under “contacts.” If an individual believes more than one component maintains Privacy Act records concerning him or her the individual may submit the request to the Chief Privacy Officer, Department of Homeland Security, 245 Murray Drive, SW., Building 410, STOP-0550, Washington, DC 20528.

When seeking records about yourself from this system of records or any other Departmental system of records your request must conform with the Privacy Act regulations set forth in 6 CFR part 5. You must first verify your identity, meaning that you must provide your full name, current address and date and place of birth. You must sign your request, and your signature must either be notarized or submitted under 28 U.S.C. 1746, a law that permits statements to be made under penalty of perjury as a substitute for notarization. While no specific form is required, you may obtain forms for this purpose from the Director, Disclosure and FOIA, http://www.dhs.gov or 1-866-431-0486. In addition you should provide the following:

• An explanation of why you believe the Department would have information on you,

• Identify which component(s) of the Department you believe may have the information about you,

• Specify when you believe the records would have been created,

• Provide any other information that will help the FOIA staff determine which DHS component agency may have responsive records,

• If your request is seeking records pertaining to another living individual, you must include a statement from that individual certifying his/her agreement for you to access his/her records.

Without this bulleted information the component(s) may not be able to conduct an effective search, and your request may be denied due to lack of specificity or lack of compliance with applicable regulations.

Record access procedures:

See “Notification procedure” above.

Contesting record procedures:

See “Notification procedure” above.

Record source categories:

Records are generated from property purchase orders and receipts; acquisition, transfer and disposal data; employee locator documentation, or otherwise from the record subject.

Exemptions claimed for the system:

None.

Dated: October 15, 2008.
Hugo Teufel III,
Chief Privacy Officer, Department of Homeland Security.

[FR Doc. E8-25207 Filed 10-22-08; 8:45 am]

BILLING CODE 4410-10-P